DEPARTMENT OF COMMERCE

National Oceanic and Atmospheric Administration

RIN 0648-XD321

New England Fishery Management Council; Public Meeting; Correction

AGENCY: National Marine Fisheries Service (NMFS), National Oceanic and Atmospheric Administration (NOAA), Commerce.

ACTION: Notice of revision to a public meeting.

SUMMARY: The New England Fishery Management Council (Council) will hold a three-day meeting, June 17 through 19, 2014, to consider actions affecting New England fisheries in the exclusive economic zone (EEZ).

DATES: The meeting will be held on Tuesday, Wednesday and Thursday, starting at 9:30 a.m. on Tuesday, June 17, and 8:30 a.m. on Wednesday and Thursday, June 18 and 19, 2014.

ADDRESSES: The meeting will be held at the Holiday Inn by the Bay, 88 Spring Street, Portland, ME 04101; telephone: (207) 775-2311, and fax: (207) 761-8224. See www.innbythebay.com for online information about the venue.

Council Address: New England Fishery Management Council, 50 Water Street, Mill 2, Newburyport, MA 01950; telephone: (978) 465-0492.

FOR FURTHER INFORMATION CONTACT: Thomas A. Nies, Executive Director, New England Fishery Management Council; telephone: (978) 465-0492.

SUPPLEMENTARY INFORMATION: The original notice published in the Federal Register on June 2, 2014 (79 FR 31313). This notice changes the time and date of an agenda item and includes an additional agenda item.

Thursday, June 19, 2014

The Council has revised its original agenda for its June 2014 meeting. The time and date for receipt of a presentation on the NOAA Fisheries/Greater Atlantic Regional Fisheries Office Omnibus Vessel Baseline Amendment has been rescheduled from the first day of the Council meeting, Tuesday, June 17, 2014, to Thursday, June 19, 2014 at 8:30 a.m. In addition to receiving the presentation, the Council will approve the draft amendment for purposes of taking public comment. The action would simplify the current vessel baseline restrictions. Final action is scheduled for the Sept. 30-Oct. 2, 2014 Council meeting in Hyannis, MA.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Thomas A. Nies (see ADDRESSES) at least 5 days prior to the meeting date.

Dated: June 2, 2014.
Tracey L. Thompson,
Acting Deputy Director, Office of Sustainable Fisheries, National Marine Fisheries Service.

[FR Doc. 2014-13030 Filed 6-4-14; 8:45 am]

BILLING CODE 3510-22-P